OFFICE OF PERSONNEL MANAGEMENT

Excepted Service; Consolidated Listing of Schedules A, B, and C Exceptions

AGENCY: Office of Personnel Management.

ACTION: Notice.

SUMMARY: This provides the consolidated notice of all agency specific excepted authorities, approved by the Office of Personnel Management (OPM), under Schedule A, B, and C, as of June 30, 2013, as required by Civil Service Rule VI, Exceptions from the Competitive Service.

FOR FURTHER INFORMATION CONTACT: Senior Executive Resources Services, Senior Executive Services and Performance Management, Employee Services, 202-606-2246.

SUPPLEMENTARY INFORMATION: Civil Service Rule VI (5 CFR 6.1) requires the U.S. Office of Personnel Management (OPM) to publish notice of exceptions granted under Schedule A, B, and C. Under 5 CFR 213.103(a) it is required that all Schedule A, B, and C appointing authorities available for use by all agencies to be published as regulations in the Federal Register (FR) and the Code of Federal Regulations (CFR). Excepted appointing authorities established solely for use by one specific agency do not meet the standard of general applicability prescribed by the Federal Register Act for regulations published in either the FR or the CFR. Therefore, 5 CFR 213.103(b) requires monthly publication, in the Notices section of the Federal Register, of any Schedule A, B, and C appointing authorities applicable to a single agency. Under 5 CFR 213.103(c) it is required that a consolidated listing of all Schedule A, B, and C authorities, current as of June 30 of each year, be published annually in the Notices section of the Federal Register at www.federalregister.gov/agencies/personnel-management-office. That notice follows. Governmentwide authorities codified in the CFR are not printed in this notice.

When making appointments under an agency-specific authority, agencies should first list the appropriate Schedule A, B, or C, followed by the applicable number, for example: Schedule A, 213.3104(x)(x). Agencies are reminded that all excepted authorities are subject to the provisions of 5 CFR part 302 unless specifically exempted by OPM at the time of approval. OPM maintains continuing information on the status of all Schedule A, B, and C appointing authorities. Interested parties needing information about specific authorities during the year may obtain information by writing to the Senior Executive Resources Services, Office of Personnel Management, 1900 E Street NW., Room 7412, Washington, DC 20415, or by calling (202) 606-2246.

The following exceptions are current as of June 30, 2013.

Schedule A

03. Executive Office of the President (Sch. A, 213.3103)

(a) Office of Administration—

(1) Not to exceed 75 positions to provide administrative services and support to the White House Office.

(b) Office of Management and Budget—

(1) Not to exceed 20 positions at grades GS-5/15.

(c) Council on Environmental Quality—

(1) Professional and technical positions in grades GS-9 through 15 on the staff of the Council.

(d)-(f) (Reserved)

(g) National Security Council—

(1) All positions on the staff of the Council.

(h) Office of Science and Technology Policy—

(1) Thirty positions of Senior Policy Analyst, GS-15; Policy Analyst, GS-11/14; and Policy Research Assistant, GS-9, for employment of anyone not to exceed 5 years on projects of a high priority nature.

(i) Office of National Drug Control Policy—

(1) Not to exceed 18 positions, GS-15 and below, of senior policy analysts and other personnel with expertise in drug-related issues and/or technical knowledge to aid in anti-drug abuse efforts.

04. Department of State (Sch. A, 213.3104)

(a) Office of the Secretary—

(1) All positions, GS-15 and below, on the staff of the Family Liaison Office, Director General of the Foreign Service and the Director of Personnel, Office of the Under Secretary for Management.

(2) (Reserved)

(b)-(f) (Reserved)

(g) Bureau of Population, Refugees, and Migration—

(1) Not to exceed 10 positions at grades GS-5 through 11 on the staff of the Bureau.

(h) Bureau of Administration—

(1) (Reserved)

(2) One position of the Director, Art in Embassies Program, GM-1001-15.

(3) (Reserved)

05. Department of the Treasury (Sch. A, 213.3105)

(a) Office of the Secretary—

(1) Not to exceed 20 positions at the equivalent of GS-13 through GS-17 to supplement permanent staff in the study of complex problems relating to international financial, economic, trade, and energy policies and programs of the Government, when filled by individuals with special qualifications for the particular study being undertaken.

(2) Covering no more than 100 positions supplementing permanent staff studying domestic economic and financial policy, with employment not to exceed 4 years.

(3) Not to exceed 100 positions in the Office of the Under Secretary for Terrorism and Financial Intelligence.

(4) Up to 35 temporary or time-limited positions at the GS-9 through 15 grade levels to support the organization, design, and stand-up activities for the Consumer Financial Protection Bureau (CFPB), as mandated by Public Law 111-203. This authority may be used for the following series: GS-201, GS-501, GS-560, GS-1035, GS-1102, GS-1150, GS-1720, GS-1801, and GS-2210. No new appointments may be made under this authority after July 21, 2011, the designated transfer date of the CFPB.

(b)-(d) (Reserved)

(e) Internal Revenue Service—

(1) Twenty positions of investigator for special assignments.

(f) (Reserved)

(g) (Reserved, moved to DOJ)

(h) Office of Financial Responsibility—

(1) Positions needed to perform investment, risk, financial, compliance, and asset management requiring unique qualifications currently not established by OPM. Positions will be in the Office of Financial Stability and the General Schedule (GS) grade levels 12-15 or Senior Level (SL), for initial employment not to exceed 4 years. No new appointments may be made under this authority after December 31, 2012.

06. Department of Defense (Sch. A, 213.3106)

(a) Office of the Secretary—

(1)-(5) (Reserved)

(6) One Executive Secretary, US-USSR Standing Consultative Commission and Staff Analyst (SALT), Office of the Assistant Secretary of Defense (International Security Affairs).

(b) Entire Department (including the Office of the Secretary of Defense and the Departments of the Army, Navy, and Air Force)—

(1) Dependent School Systems overseas—Professional positions in Military Dependent School systems overseas.

(2) Positions in Attaché 1 systems overseas, including all professional and scientific positions in the Naval Research Branch Office in London.

(3) Positions of clerk-translator, translator, and interpreter overseas.

(4) Positions of Educational Specialist the incumbents of which will serve as Director of Religious Education on the staffs of the chaplains in the military services.

(5) Positions under the program for utilization of alien scientists, approved under pertinent directives administered by the Director of Defense Research and Engineering of the Department of Defense, when occupied by alien scientists initially employed under the program including those who have acquired United States citizenship during such employment.

(6) Positions in overseas installations of the DOD when filled by dependents of military or civilian employees of the U.S. Government residing in the area. Employment under this authority may not extend longer than 2 months following the transfer from the area or separation of a dependent's sponsor: Provided that

(i) A school employee may be permitted to complete the school year; and

(ii) An employee other than a school employee may be permitted to serve up to 1 additional year when the military department concerned finds that the additional employment is in the interest of management.

(7) Twenty secretarial and staff support positions at GS-12 or below on the White House Support Group.

(8) Positions in DOD research and development activities occupied by participants in the DOD Science and Engineering Apprenticeship Program for High School Students. Persons employed under this authority shall be bona fide high school students, at least 14 years old, pursuing courses related to the position occupied and limited to 1,040 working hours a year. Children of DOD employees may be appointed to these positions, notwithstanding the sons and daughters restriction, if the positions are in field activities at remote locations. Appointments under this authority may be made only to positions for which qualification standards established under 5 CFR part 302 are consistent with the education and experience standards established for comparable positions in the competitive service. Appointments under this authority may not be used to extend the service limits contained in any other appointing authority.

(9) (Reserved)

(10) Temporary or time-limited positions in direct support of U.S. Government efforts to rebuild and create an independent, free and secure Iraq and Afghanistan, when no other appropriate appointing authority applies. Positions will generally be located in Iraq or Afghanistan, but may be in other locations, including the United States, when directly supporting operations in Iraq or in Afghanistan. No new appointments may be made under this authority after September 30, 2014.

(11) Not to exceed 3,000 positions that require unique cyber security skills and knowledge to perform cyber risk and strategic analysis, incident handling and malware/vulnerability analysis, program management, distributed control systems security, cyber incident response, cyber exercise facilitation and management, cyber vulnerability detection and assessment, network and systems engineering, enterprise architecture, intelligence analysis, investigation, investigative analysis, and cyber-related infrastructure inter-dependency analysis. This authority may be used to make permanent, time-limited and temporary appointments in the following occupational series: Security (GS-0080), Intelligence Analysts (GS-0132), Computer Engineers (GS-0854), Electronic Engineers (GS-0855), Computer Scientists (GS-1550), Operations Research (GS-1515), Criminal Investigators (GS-1811), Telecommunications (GS-0391), and IT Specialists (GS-2210). Within the scope of this authority, the U.S. Cyber Command is also authorized to hire miscellaneous administrative and program (GS-0301) series when those positions require unique qualifications not currently established by OPM. All positions will be at the General Schedule (GS) grade levels 09-15. No new appointments may be made under this authority after December 31, 2013.

(c) (Reserved)

(d) General—

(1) Positions concerned with advising, administering, supervising, or performing work in the collection, processing, analysis, production, evaluation, interpretation, dissemination, and estimation of intelligence information, including scientific and technical positions in the intelligence function; and positions involved in the planning, programming, and management of intelligence resources when, in the opinion of OPM, it is impracticable to examine. This authority does not apply to positions assigned to cryptologic and communications intelligence activities/functions.

(2) Positions involved in intelligence-related work of the cryptologic intelligence activities of the military departments. This includes all positions of intelligence research specialist, and similar positions in the intelligence classification series; all scientific and technical positions involving the applications of engineering, physical, or technical sciences to intelligence work; and professional as well as intelligence technician positions in which a majority of the incumbent's time is spent in advising, administering, supervising, or performing work in the collection, processing, analysis, production, evaluation, interpretation, dissemination, and estimation of intelligence information or in the planning, programming, and management of intelligence resources.

(e) Uniformed Services University of the Health Sciences—

(1) Positions of President, Vice Presidents, Assistant Vice Presidents, Deans, Deputy Deans, Associate Deans, Assistant Deans, Assistants to the President, Assistants to the Vice Presidents, Assistants to the Deans, Professors, Associate Professors, Assistant Professors, Instructors, Visiting Scientists, Research Associates, Senior Research Associates, and Postdoctoral Fellows.

(2) Positions established to perform work on projects funded from grants.

(f) National Defense University—

(1) Not to exceed 16 positions of senior policy analyst, GS-15, at the Strategic Concepts Development Center. Initial appointments to these positions may not exceed 6 years, but may be extended thereafter in 1-, 2-, or 3-year increments, indefinitely.

(g) Defense Communications Agency—

(1) Not to exceed 10 positions at grades GS-10/15 to staff and support the Crisis Management Center at the White House.

(h) Defense Acquisition University—

(1) The Provost and professors.

(i) George C. Marshall European Center for Security Studies, Garmisch, Germany—

(1) The Director, Deputy Director, and positions of professor, instructor, and lecturer at the George C. Marshall European Center for Security Studies, Garmisch, Germany, for initial employment not to exceed 3 years, which may be renewed in increments from 1 to 2 years thereafter.

(j) Asia-Pacific Center for Security Studies, Honolulu, Hawaii—

(1) The Director, Deputy Director, Dean of Academics, Director of College, deputy department chairs, and senior positions of professor, associate professor, and research fellow within the Asia Pacific Center. Appointments may be made not to exceed 3 years and may be extended for periods not to exceed 3 years.

(k) Business Transformation Agency—

(1) Fifty temporary or time-limited (not to exceed four years) positions, at grades GS-11 through GS-15. The authority will be used to appoint persons in the following series: Management and Program Analysis, GS-343: Logistics Management, GS-346; Financial Management Programs, GS-501; Accounting, GS-510; Computer Engineering, GS-854; Business and Industry, GS-1101; Operations Research, GS-1515; Computer Science, GS-1550; General Supply, GS-2001; Supply Program Management, GS-2003; Inventory Management, GS-2010; and Information Technology, GS-2210.

(l) Special Inspector General for Afghanistan—

(1) Positions needed to establish the Special Inspector General for Afghanistan Reconstruction. These positions provide for the independent and objective conduct and supervision of audits and investigations relating to the programs and operations funded with amounts appropriated and otherwise made available for the reconstruction of Afghanistan. These positions are established at General Schedule (GS) grade levels for initial employment not to exceed 3 years and may, with prior approval of OPM, be extended for an additional period of 2 years. No new appointments may be made under this authority after January 31, 2011.

07. Department of the Army (Sch. A, 213.3107)

(a)-(c) (Reserved)

(d) U.S. Military Academy, West Point, New York—

(1) Civilian professors, instructors, teachers (except teachers at the Children's School), Cadet Social Activities Coordinator, Chapel Organist and Choir-Master, Director of Intercollegiate Athletics, Associate Director of Intercollegiate Athletics, Coaches, Facility Manager, Building Manager, three Physical Therapists (Athletic Trainers), Associate Director of Admissions for Plans and Programs, Deputy Director of Alumni Affairs; and Librarian when filled by an officer of the Regular Army retired from active service, and the Military Secretary to the Superintendent when filled by a U.S. Military Academy graduate retired as a regular commissioned officer for disability.

(e)-(f) (Reserved)

(g) Defense Language Institute—

(1) All positions (professors, instructors, lecturers) which require proficiency in a foreign language or knowledge of foreign language teaching methods.

(h) Army War College, Carlisle Barracks, PA—

(1) Positions of professor, instructor, or lecturer associated with courses of instruction of at least 10 months duration for employment not to exceed 5 years, which may be renewed in 1-, 2-, 3-, 4-, or 5-year increments indefinitely thereafter.

(i) (Reserved)

(j) U.S. Military Academy Preparatory School, Fort Monmouth, New Jersey—

(1) Positions of Academic Director, Department Head, and Instructor.

(k) U.S. Army Command and General Staff College, Fort Leavenworth, Kansas—

(1) Positions of professor, associate professor, assistant professor, and instructor associated with courses of instruction of at least 10 months duration, for employment not to exceed up to 5 years, which may be renewed in 1-, 2-, 3-, 4-, or 5-year increments indefinitely thereafter.

08. Department of the Navy (Sch. A, 213.3108)

(a) General—

(1)-(14) (Reserved)

(15) Marine positions assigned to a coastal or seagoing vessel operated by a naval activity for research or training purposes.

(16) All positions necessary for the administration and maintenance of the official residence of the Vice President.

(b) Naval Academy, Naval Postgraduate School, and Naval War College—

(1) Professors, Instructors, and Teachers; the Director of Academic Planning, Naval Postgraduate School; and the Librarian, Organist-Choirmaster, Registrar, the Dean of Admissions, and Social Counselors at the Naval Academy.

(c) Chief of Naval Operations—

(1) One position at grade GS-12 or above that will provide technical, managerial, or administrative support on highly classified functions to the Deputy Chief of Naval Operations (Plans, Policy, and Operations).

(d) Military Sealift Command

(1) All positions on vessels operated by the Military Sealift Command.

(e)-(f) (Reserved)

(g) Office of Naval Research—

(1) Scientific and technical positions, GS-13/15, in the Office of Naval Research International Field Office which covers satellite offices within the Far East, Africa, Europe, Latin America, and the South Pacific. Positions are to be filled by personnel having specialized experience in scientific and/or technical disciplines of current interest to the Department of the Navy.

09. Department of the Air Force (Sch. A, 213.3109)

(a) Office of the Secretary—

(1) One Special Assistant in the Office of the Secretary of the Air Force. This position has advisory rather than operating duties except as operating or administrative responsibilities may be exercised in connection with the pilot studies.

(b) General—

(1) Professional, technical, managerial and administrative positions supporting space activities, when approved by the Secretary of the Air Force.

(2) One hundred eighty positions, serviced by Hill Air Force Base, Utah, engaged in interdepartmental activities in support of national defense projects involving scientific and technical evaluations.

(c) Norton and McClellan Air Force Bases, California—

(1) Not to exceed 20 professional positions, GS-11 through GS-15, in Detachments 6 and 51, SM-ALC, Norton and McClellan Air Force Bases, California, which will provide logistic support management to specialized research and development projects.

(d) U.S. Air Force Academy, Colorado—

(1) (Reserved)

(2) Positions of Professor, Associate Professor, Assistant Professor, and Instructor, in the Dean of Faculty, Commandant of Cadets, Director of Athletics, and Preparatory School of the United States Air Force Academy.

(e) (Reserved)

(f) Air Force Office of Special Investigations—

(1) Positions of Criminal Investigators/Intelligence Research Specialists, GS-5 through GS-15, in the Air Force Office of Special Investigations.

(g) Wright-Patterson Air Force Base, Ohio—

(1) Not to exceed eight positions, GS-12 through 15, in Headquarters Air Force Logistics Command, DCS Material Management, Office of Special Activities, Wright-Patterson Air Force Base, Ohio, which will provide logistic support management staff guidance to classified research and development projects.

(h) Air University, Maxwell Air Force Base, Alabama—

(1) Positions of Professor, Instructor, or Lecturer.

(i) Air Force Institute of Technology, Wright-Patterson Air Force Base, Ohio—

(1) Civilian deans and professors.

(j) Air Force Logistics Command—

(1) One Supervisory Logistics Management Specialist, GM-346-14, in Detachment 2, 2762 Logistics Management Squadron (Special), Greenville, Texas.

(k) Wright-Patterson AFB, Ohio—

(1) One position of Supervisory Logistics Management Specialist, GS-346-15, in the 2762nd Logistics Squadron (Special), at Wright-Patterson Air Force Base, Ohio.

(l) Air National Guard Readiness Center—

(1) One position of Commander, Air National Guard Readiness Center, Andrews Air Force Base, Maryland.

10. Department of Justice (Sch. A, 213.3110)

(a) General—

(1) Deputy U.S. Marshals employed on an hourly basis for intermittent service.

(2) Positions at GS-15 and below on the staff of an office of a special counsel.

(3)-(5) (Reserved)

(6) Positions of Program Manager and Assistant Program Manager supporting the International Criminal Investigative Training Assistance Program in foreign countries. Initial appointments under this authority may not exceed 2 years, but may be extended in 1-year increments for the duration of the in-country program.

(7) Positions necessary throughout DOJ, for the excepted service transfer of NDIC employees hired under Schedule A, 213.3110(d). Authority expires September 30, 2012.

(b) (Reserved, moved to DHS)

(c) Drug Enforcement Administration—

(1) (Reserved)

(2) Four hundred positions of Intelligence Research Agent and/or Intelligence Operation Specialist in the GS-132 series, grades GS-9 through GS-15.

(3) Not to exceed 200 positions of Criminal Investigator (Special Agent). New appointments may be made under this authority only at grades GS-7/11.

(d) (Reserved, moved to Justice)

(e) Bureau of Alcohol, Tobacco, and Firearms—

(1) One hundred positions of Criminal Investigator for special assignments.

(2) One non-permanent Senior Level (SL) Criminal Investigator to serve as a senior advisor to the Assistant Director (Firearms, Explosives, and Arson).

11. Department of Homeland Security (Sch. A, 213.3111)

(a) (Revoked 11/19/2009)

(b) Law Enforcement Policy—

(1) Ten positions for oversight policy and direction of sensitive law enforcement activities.

(c) Homeland Security Labor Relations Board/Homeland Security Mandatory Removal Board—

(1) Up to 15 Senior Level and General Schedule (or equivalent) positions.

(d) General—

(1) Not to exceed 1,000 positions to perform cyber risk and strategic analysis, incident handling and malware/vulnerability analysis, program management, distributed control systems security, cyber incident response, cyber exercise facilitation and management, cyber vulnerability detection and assessment, network and systems engineering, enterprise architecture, intelligence analysis, investigation, investigative analysis and cyber-related infrastructure interdependency analysis requiring unique qualifications currently not established by OPM. Positions will be at the General Schedule (GS) grade levels 09-15. No new appointments may be made under this authority after December 31, 2013.

(e) Papago Indian Agency—Not to exceed 25 positions of Immigration and Customs Enforcement (ICE) Tactical Officers (Shadow Wolves) in the Papago Indian Agency in the State of Arizona when filled by the appointment of persons of one-fourth or more Indian blood. (Formerly 213.3105(b)(9))

(f) U.S. Citizenship and Immigration Services

(1) Reserved. (Formerly 213.3110(b)(1))

(2) Not to exceed 500 positions of interpreters and language specialists, GS-1040-5/9. (Formerly 213.3110(b)(2))

(3) Reserved. (Formerly 213.3110(b)(3))

12. Department of the Interior (Sch. A, 213.3112)

(a) General—

(1) Technical, maintenance, and clerical positions at or below grades GS-7, WG-10, or equivalent, in the field service of the Department of the Interior, when filled by the appointment of persons who are certified as maintaining a permanent and exclusive residence within, or contiguous to, a field activity or district, and as being dependent for livelihood primarily upon employment available within the field activity of the Department.

(2) All positions on Government-owned ships or vessels operated by the Department of the Interior.

(3) Temporary or seasonal caretakers at temporarily closed camps or improved areas to maintain grounds, buildings, or other structures and prevent damages or theft of Government property. Such appointments shall not extend beyond 130 working days a year without the prior approval of OPM.

(4) Temporary, intermittent, or seasonal field assistants at GS-7, or its equivalent, and below in such areas as forestry, range management, soils, engineering, fishery and wildlife management, and with surveying parties. Employment under this authority may not exceed 180 working days a year.

(5) Temporary positions established in the field service of the Department for emergency forest and range fire prevention or suppression and blister rust control for not to exceed 180 working days a year: Provided, that an employee may work as many as 220 working days a year when employment beyond 180 days is required to cope with extended fire seasons or sudden emergencies such as fire, flood, storm, or other unforeseen situations involving potential loss of life or property.

(6) Persons employed in field positions, the work of which is financed jointly by the Department of the Interior and cooperating persons or organizations outside the Federal service.

(7) All positions in the Bureau of Indian Affairs and other positions in the Department of the Interior directly and primarily related to providing services to Indians when filled by the appointment of Indians. The Secretary of the Interior is responsible for defining the term “Indian.”

(8) Temporary, intermittent, or seasonal positions at GS-7 or below in Alaska, as follows: Positions in nonprofessional mining activities, such as those of drillers, miners, caterpillar operators, and samplers. Employment under this authority shall not exceed 180 working days a year and shall be appropriate only when the activity is carried on in a remote or isolated area and there is a shortage of available candidates for the positions.

(9) Temporary, part-time, or intermittent employment of mechanics, skilled laborers, equipment operators, and tradesmen on construction, repair, or maintenance work not to exceed 180 working days a year in Alaska, when the activity is carried on in a remote or isolated area and there is a shortage of available candidates for the positions.

(10) Seasonal airplane pilots and airplane mechanics in Alaska, not to exceed 180 working days a year.

(11) Temporary staff positions in the Youth Conservation Corps Centers operated by the Department of the Interior. Employment under this authority shall not exceed 11 weeks a year except with prior approval of OPM.

(12) Positions in the Youth Conservation Corps for which pay is fixed at the Federal minimum wage rate. Employment under this authority may not exceed 10 weeks.

(b) (Reserved)

(c) Indian Arts and Crafts Board—

(1) The Executive Director

(d) (Reserved)

(e) Office of the Assistant Secretary, Territorial and International Affairs—

(1) (Reserved)

(2) Not to exceed four positions of Territorial Management Interns, grades GS-5, GS-7, or GS-9, when filled by territorial residents who are U.S. citizens from the Virgin Islands or Guam; U.S. nationals from American Samoa; or in the case of the Northern Marianas, will become U.S. citizens upon termination of the U.S. trusteeship. Employment under this authority may not exceed 6 months.

(3) (Reserved)

(4) Special Assistants to the Governor of American Samoa who perform specialized administrative, professional, technical, and scientific duties as members of his or her immediate staff.

(f) National Park Service—

(1) (Reserved)

(2) Positions established for the administration of Kalaupapa National Historic Park, Molokai, Hawaii, when filled by appointment of qualified patients and Native Hawaiians, as provided by Public Law 95-565.

(3) Seven full-time permanent and 31 temporary, part-time, or intermittent positions in the Redwood National Park, California, which are needed for rehabilitation of the park, as provided by Public Law 95-250.

(4) One Special Representative of the Director.

(5) All positions in the Grand Portage National Monument, Minnesota, when filled by the appointment of recognized members of the Minnesota Chippewa Tribe.

(g) Bureau of Reclamation—

(1) Appraisers and examiners employed on a temporary, intermittent, or part-time basis on special valuation or prospective-entrymen-review projects where knowledge of local values on conditions or other specialized qualifications not possessed by regular Bureau employees are required for successful results. Employment under this provision shall not exceed 130 working days a year in any individual case: Provided, that such employment may, with prior approval of OPM, be extended for not to exceed an additional 50 working days in any single year.

(h) Office of the Deputy Assistant Secretary for Territorial Affairs—

(1) Positions of Territorial Management Interns, GS-5, when filled by persons selected by the Government of the Trust Territory of the Pacific Islands. No appointment may extend beyond 1 year.

13. Department of Agriculture (Sch. A, 213.3113)

(a) General—

(1) Agents employed in field positions the work of which is financed jointly by the Department and cooperating persons, organizations, or governmental agencies outside the Federal service. Except for positions for which selection is jointly made by the Department and the cooperating organization, this authority is not applicable to positions in the Agricultural Research Service or the National Agricultural Statistics Service. This authority is not applicable to the following positions in the Agricultural Marketing Service: Agricultural commodity grader (grain) and (meat), (poultry), and (dairy), agricultural commodity aid (grain), and tobacco inspection positions.

(2)-(4) (Reserved)

(5) Temporary, intermittent, or seasonal employment in the field service of the Department in positions at and below GS-7 and WG-10 in the following types of positions: Field assistants for sub professional services; agricultural helpers, helper-leaders, and workers in the Agricultural Research Service and the Animal and Plant Health Inspection Service; and subject to prior OPM approval granted in the calendar year in which the appointment is to be made, other clerical, trades, crafts, and manual labor positions. Total employment under this subparagraph may not exceed 180 working days in a service year: Provided, that an employee may work as many as 220 working days in a service year when employment beyond 180 days is required to cope with extended fire seasons or sudden emergencies such as fire, flood, storm, or other unforeseen situations involving potential loss of life or property. This paragraph does not cover trades, crafts, and manual labor positions covered by paragraph (i) of Sec. 213.3102 or positions within the Forest Service.

(6)-(7) (Reserved)

(b)-(c) (Reserved)

(d) Farm Service Agency—

(1) (Reserved)

(2) Members of State Committees: Provided, that employment under this authority shall be limited to temporary intermittent (WAE) positions whose principal duties involve administering farm programs within the State consistent with legislative and Departmental requirements and reviewing national procedures and policies for adaptation at State and local levels within established parameters. Individual appointments under this authority are for 1 year and may be extended only by the Secretary of Agriculture or his designee. Members of State Committees serve at the pleasure of the Secretary.

(e) Rural Development—

(1) (Reserved)

(2) County committeemen to consider, recommend, and advise with respect to the Rural Development program.

(3)-5) (Reserved)

(6) Professional and clerical positions in the Trust Territory of the Pacific Islands when occupied by indigenous residents of the Territory to provide financial assistance pursuant to current authorizing statutes.

(f) Agricultural Marketing Service—

(1) Positions of Agricultural Commodity Graders, Agricultural Commodity Technicians, and Agricultural Commodity Aids at grades GS-9 and below in the tobacco, dairy, and poultry commodities; Meat Acceptance Specialists, GS-11 and below; Clerks, Office Automation Clerks, and Computer Clerks at GS-5 and below; Clerk-Typists at grades GS-4 and below; and Laborers under the Wage System. Employment under this authority is limited to either 1,280 hours or 180 days in a service year.

(2) Positions of Agricultural Commodity Graders, Agricultural Commodity Technicians, and Agricultural Commodity Aids at grades GS-11 and below in the cotton, raisin, peanut, and processed and fresh fruit and vegetable commodities and the following positions in support of these commodities: Clerks, Office Automation Clerks, and Computer Clerks and Operators at GS-5 and below; Clerk-Typists at grades GS-4 and below; and, under the Federal Wage System, High Volume Instrumentation (HVI) Operators and HVI Operator Leaders at WG/WL-2 and below, respectively, Instrument Mechanics/Workers/Helpers at WG-10 and below, and Laborers. Employment under this authority may not exceed 180 days in a service year. In unforeseen situations such as bad weather or crop conditions, unanticipated plant demands, or increased imports, employees may work up to 240 days in a service year. Cotton Agricultural Commodity Graders, GS-5, may be employed as trainees for the first appointment for an initial period of 6 months for training without regard to the service year limitation.

(3) Milk Market Administrators

(4) All positions on the staffs of the Milk Market Administrators.

(g)-(k) (Reserved)

(l) Food Safety and Inspection Service—

(1)-(2) (Reserved)

(3) Positions of Meat and Poultry Inspectors (Veterinarians at GS-11 and below and non-Veterinarians at appropriate grades below GS-11) for employment on a temporary, intermittent, or seasonal basis, not to exceed 1,280 hours a year.

(m) Grain Inspection, Packers and Stockyards Administration—

(1) One hundred and fifty positions of Agricultural Commodity Aid (Grain), GS-2/4; 100 positions of Agricultural Commodity Technician (Grain), GS-4/7; and 60 positions of Agricultural Commodity Grader (Grain), GS-5/9, for temporary employment on a part-time, intermittent, or seasonal basis not to exceed 1,280 hours in a service year.

(n) Alternative Agricultural Research and Commercialization Corporation—

(1) Executive Director

14. Department of Commerce (Sch. A, 213.3114)

(a) General—

(1)-(2) (Reserved)

(3) Not to exceed 50 scientific and technical positions whose duties are performed primarily in the Antarctic. Incumbents of these positions may be stationed in the continental United States for periods of orientation, training, analysis of data, and report writing.

(b)-(c) (Reserved)

(d) Bureau of the Census—

(1) Managers, supervisors, technicians, clerks, interviewers, and enumerators in the field service, for time-limited employment to conduct a census.

(2) Current Program Interviewers employed in the field service.

(e)-(h) (Reserved)

(i) Office of the Under Secretary for International Trade—

(1) Fifteen positions at GS-12 and above in specialized fields relating to international trade or commerce in units under the jurisdiction of the Under Secretary for International Trade. Incumbents will be assigned to advisory rather than to operating duties, except as operating and administrative responsibility may be required for the conduct of pilot studies or special projects. Employment under this authority will not exceed 2 years for an individual appointee.

(2) (Reserved)

(3) Not to exceed 15 positions in grades GS-12 through GS-15, to be filled by persons qualified as industrial or marketing specialists; who possess specialized knowledge and experience in industrial production, industrial operations and related problems, market structure and trends, retail and wholesale trade practices, distribution channels and costs, or business financing and credit procedures applicable to one or more of the current segments of U.S. industry served by the Under Secretary for International Trade, and the subordinate components of his organization which are involved in Domestic Business matters. Appointments under this authority may be made for a period not to exceed 2 years and may, with prior OPM approval, be extended for an additional 2 years.

(j) National Oceanic and Atmospheric Administration—

(1)-(2) (Reserved)

(3) All civilian positions on vessels operated by the National Ocean Service.

(4) Temporary positions required in connection with the surveying operations of the field service of the National Ocean Service. Appointment to such positions shall not exceed 8 months in any 1 calendar year.

(k) (Reserved)

(l) National Telecommunication and Information Administration—

(1) Thirty-eight professional positions in grades GS-13 through GS-15.

15. Department of Labor (Sch. A, 213.3115)

(a) Office of the Secretary—

(1) Chairman and five members, Employees' Compensation Appeals Board.

(2) Chairman and eight members, Benefits Review Board.

(b)-(c) (Reserved)

(d) Employment and Training Administration—

(1) Not to exceed 10 positions of Supervisory Manpower Development Specialist and Manpower Development Specialist, GS-7/15, in the Division of Indian and Native American Programs, when filled by the appointment of persons of one-fourth or more Indian blood. These positions require direct contact with Indian tribes and communities for the development and administration of comprehensive employment and training programs.

16. Department of Health and Human Services (Sch. A, 213.3116)

(a) General—

(1) Intermittent positions, at GS-15 and below and WG-10 and below, on teams under the National Disaster Medical System including Disaster Medical Assistance Teams and specialty teams, to respond to disasters, emergencies, and incidents/events involving medical, mortuary and public health needs.

(b) Public Health Service—

(1) (Reserved)

(2) Positions at Government sanatoria when filled by patients during treatment or convalescence.

(3) (Reserved)

(4) Positions concerned with problems in preventive medicine financed or participated in by the Department of Health and Human Services and a cooperating State, county, municipality, incorporated organization, or an individual in which at least one-half of the expense is contributed by the participating agency either in salaries, quarters, materials, equipment, or other necessary elements in the carrying on of the work.

(5)-(6) (Reserved)

(7) Not to exceed 50 positions associated with health screening programs for refugees.

(8) All positions in the Public Health Service and other positions in the Department of Health and Human Services directly and primarily related to providing services to Indians when filled by the appointment of Indians. The Secretary of Health and Human Services is responsible for defining the term “Indian.”

(9) (Reserved)

(10) Health care positions of the National Health Service Corps for employment of any one individual not to exceed 4 years of service in health manpower shortage areas.

(11)-(14) (Reserved)

(15) Not to exceed 200 staff positions, GS-15 and below, in the Immigration Health Service, for an emergency staff to provide health related services to foreign entrants.

(c)-(e) (Reserved)

(f) The President's Council on Physical Fitness—

(1) Four staff assistants.

17. Department of Education (Sch. A, 213.3117)

(a) Positions concerned with problems in education financed and participated in by the Department of Education and a cooperating State educational agency, or university or college, in which there is joint responsibility for selection and supervision of employees, and at least one-half of the expense is contributed by the cooperating agency in salaries, quarters, materials, equipment, or other necessary elements in the carrying on of the work.

18. Board of Governors, Federal Reserve System (Sch. A, 213.3118)

(a) All positions

27. Department of Veterans Affairs (Sch. A, 213.3127)

(a) Construction Division—

(1) Temporary construction workers paid from “purchase and hire” funds and appointed for not to exceed the duration of a construction project.

(b) Alcoholism Treatment Units and Drug Dependence Treatment Centers—

(1) Not to exceed 400 positions of rehabilitation counselors, GS-3 through GS-11, in Alcoholism Treatment Units and Drug Dependence Treatment Centers, when filled by former patients.

(c) Board of Veterans' Appeals—

(1) Positions, GS-15, when filled by a member of the Board. Except as provided by section 201(d) of Public Law 100-687, appointments under this authority shall be for a term of 9 years, and may be renewed.

(2) Positions, GS-15, when filled by a non-member of the Board who is awaiting Presidential approval for appointment as a Board member.

(d) Vietnam Era Veterans Readjustment Counseling Service—

(1) Not to exceed 600 positions at grades GS-3 through GS-11, involved in the Department's Vietnam Era Veterans Readjustment Counseling Service.

32. Small Business Administration (Sch. A, 213.3132)

(a) When the President under 42 U.S.C. 1855-1855g, the Secretary of Agriculture under 7 U.S.C. 1961, or the Small Business Administration under 15 U.S.C. 636(b)(1) declares an area to be a disaster area, positions filled by time-limited appointment of employees to make and administer disaster loans in the area under the Small Business Act, as amended. Service under this authority may not exceed 4 years, and no more than 2 years may be spent on a single disaster. Exception to this time limit may only be made with prior Office of Personnel Management approval. Appointments under this authority may not be used to extend the 2-year service limit contained below. No one may be appointed under this authority to positions engaged in long-term maintenance of loan portfolios.

(b) When the President under 42 U.S.C. 1855-1855g, the Secretary of Agriculture under 7 U.S.C. 1961, or the Small Business Administration under 15 U.S.C. 636(b)(1) declares an area to be a disaster area, positions filled by time-limited appointment of employees to make and administer disaster loans in that area under the Small Business Act, as amended. No one may serve under this authority for more than an aggregate of 2 years without a break in service of at least 6 months. Persons who have had more than 2 years of service under paragraph (a) of this section must have a break in service of at least 8 months following such service before appointment under this authority. No one may be appointed under this authority to positions engaged in long-term maintenance of loan portfolios.

33. Federal Deposit Insurance Corporation (Sch. A, 213.3133)

(a)-(b) (Reserved)

(c) Temporary or time-limited positions located at closed banks or savings and loan institutions that are concerned with liquidating the assets of the institutions, liquidating loans to the institutions, or paying the depositors of closed insured institutions. Time-limited appointments under this authority may not exceed 7 years.

36. U.S. Soldiers' and Airmen's Home (Sch. A, 213.3136)

(a) (Reserved)

(b) Positions when filled by member-residents of the Home.

46. Selective Service System (Sch. A, 213.3146)

(a) State Directors

48. National Aeronautics and Space Administration (Sch. A, 213.3148)

(a) One hundred and fifty alien scientists having special qualifications in the fields of aeronautical and space research where such employment is deemed by the Administrator of the National Aeronautics and Space Administration to be necessary in the public interest.

55. Social Security Administration (Sch. A, 213.3155)

(a) Arizona District Offices—

(1) Six positions of Social Insurance Representative in the district offices of the Social Security Administration in the State of Arizona when filled by the appointment of persons of one-fourth or more Indian blood.

(b) New Mexico—

(1) Seven positions of Social Insurance Representative in the district offices of the Social Security Administration in the State of New Mexico when filled by the appointment of persons of one-fourth or more Indian blood.

(c) Alaska—

(1) Two positions of Social Insurance Representative in the district offices of the Social Security Administration in the State of Alaska when filled by the appointments of persons of one-fourth or more Alaskan Native blood (Eskimos, Indians, or Aleuts).

62. The President's Crime Prevention Council (Sch. A, 213.3162)

(a) (Reserved)

65. Chemical Safety and Hazard Investigation Board (Sch. A, 213.3165)

(a) (Reserved)

(b) (Reserved)

66. Court Services and Offender Supervision Agency of the District of Columbia (Sch. A, 213.3166)

(a) (Reserved, expired 3/31/2004)

70. Millennium Challenge Corporation (MCC) (Sch. A, 213.3170)

(a) (Reserved, expired 9/30/2007)

(b)

(1) Positions of Resident Country Directors and Deputy Resident Country Directors. The length of appointments will correspond to the length or term of the compact agreements made between the MCC and the country in which the MCC will work, plus one additional year to cover pre- and post-compact agreement related activities.

74. Smithsonian Institution (Sch. A, 213.3174)

(a) (Reserved)

(b) Smithsonian Tropical Research Institute—All positions located in Panama which are part of or which support the Smithsonian Tropical Research Institute.

(c) National Museum of the American Indian—Positions at GS-15 and below requiring knowledge of, and experience in, tribal customs and culture. Such positions comprise approximately 10 percent of the Museum's positions and, generally, do not include secretarial, clerical, administrative, or program support positions.

75. Woodrow Wilson International Center for Scholars (Sch. A, 213.3175)

(a) One Asian Studies Program Administrator, one International Security Studies Program Administrator, one Latin American Program Administrator, one Russian Studies Program Administrator, two Social Science Program Administrators, one Middle East Studies Program Administrator, one African Studies Program Administrator, one Global Sustainability and Resilience Program Administrator, one Canadian Studies Program Administrator; one China Studies Program Administrator, and one Science, Technology and Innovation Program Administrator.

78. Community Development Financial Institutions Fund (Sch. A, 213.3178)

(a) (Reserved, expired 9/23/1998)

80. Utah Reclamation and Conservation Commission (Sch. A, 213.3180)

(a) Executive Director

82. National Foundation on the Arts and the Humanities (Sch. A, 213.3182)

(a) National Endowment for the Arts—

(1) Artistic and related positions at grades GS-13 through GS-15 engaged in the review, evaluation and administration of applications and grants supporting the arts, related research and assessment, policy and program development, arts education, access programs and advocacy, or evaluation of critical arts projects and outreach programs. Duties require artistic stature, in-depth knowledge of arts disciplines and/or artistic-related leadership qualities.

90. African Development Foundation (Sch. A, 213.3190)

(a) One Enterprise Development Fund Manager. Appointment is limited to four years unless extended by OPM.

91. Office of Personnel Management (Sch. A, 213.3191)

(a)-(c) (Reserved)

(d) Part-time and intermittent positions of test examiners at grades GS-8 and below.

94. Department of Transportation (Sch. A, 213.3194)

(a) U.S. Coast Guard—

(1) (Reserved)

(2) Lamplighters

(3) Professors, Associate Professors, Assistant Professors, Instructors, one Principal Librarian, one Cadet Hostess, and one Psychologist (Counseling) at the Coast Guard Academy, New London, Connecticut.

(b)-(d) (Reserved)

(e) Maritime Administration—

(1)-(2) (Reserved)

(3) All positions on Government-owned vessels or those bareboats chartered to the Government and operated by or for the Maritime Administration.

(4)-(5) (Reserved)

(6) U.S. Merchant Marine Academy, positions of: Professors, Instructors, and Teachers, including heads of Departments of Physical Education and Athletics, Humanities, Mathematics and Science, Maritime Law and Economics, Nautical Science, and Engineering; Coordinator of Shipboard Training; the Commandant of Midshipmen, the Assistant Commandant of Midshipmen; Director of Music; three Battalion Officers; three Regimental Affairs Officers; and one Training Administrator.

(7) U.S. Merchant Marine Academy positions of: Associate Dean; Registrar; Director of Admissions; Assistant Director of Admissions; Director, Office of External Affairs; Placement Officer; Administrative Librarian; Shipboard Training Assistant; three Academy Training Representatives; and one Education Program Assistant.

(f) Up to 40 positions at the GS-13 through 15 grade levels and within authorized SL allocations necessary to support the following credit agency programs of the Department: the Federal Highway Administration's Transportation Infrastructure Finance and Innovation Act Program, the Federal Railroad Administration's Railroad Rehabilitation and Improvement Financing Program, the Federal Maritime Administration's Title XI Program, and the Office of the Secretary's Office of Budget and Programs Credit Staff. This authority may be used to make temporary, time-limited, or permanent appointments, as the DOT deems appropriate, in the following occupational series: Director or Deputy Director SL-301/340, Origination Team Lead SL-301, Deputy Director/Senior Financial Analyst GS-1160, Origination Financial Policy Advisor GS-301, Credit Budgeting Team Lead GS-1160, Credit Budgeting Financial Analysts GS-1160, Portfolio Monitoring Lead SL-1160, Portfolio Monitoring Financial Analyst GS-1160, Financial Analyst GS-1160. No new appointments may be made under this authority after December 31, 2014.

95. Federal Emergency Management Agency (Sch. A, 213.3195)

(a) Field positions at grades GS-15 and below, or equivalent, which are engaged in work directly related to unique response efforts to environmental emergencies not covered by the Disaster Relief Act of 1974, Public Law 93-288, as amended. Employment under this authority may not exceed 36 months on any single emergency. Persons may not be employed under this authority for long-term duties or for work not directly necessitated by the emergency response effort.

(b) Not to exceed 30 positions at grades GS-15 and below in the Offices of Executive Administration, General Counsel, Inspector General, Comptroller, Public Affairs, Personnel, Acquisition Management, and the State and Local Program and Support Directorate which are engaged in work directly related to unique response efforts to environmental emergencies not covered by the Disaster Relief Act of 1974, Public Law 93-288, as amended. Employment under this authority may not exceed 36 months on any single emergency, or for long-term duties or work not directly necessitated by the emergency response effort. No one may be reappointed under this authority for service in connection with a different emergency unless at least 6 months have elapsed since the individual's latest appointment under this authority.

(c) Not to exceed 350 professional and technical positions at grades GS-5 through GS-15, or equivalent, in Mobile Emergency Response Support Detachments (MERS).

Schedule B

03. Executive Office of the President (Sch. B, 213.3203)

(a) (Reserved)

(b) Office of the Special Representative for Trade Negotiations—

(1) Seventeen positions of economist at grades GS-12 through GS-15.

04. Department of State (Sch. B, 213.3204)

(a) (1) One non-permanent senior level position to serve as Science and Technology Advisor to the Secretary.

(b)-(c) (Reserved)

(d) Seventeen positions on the household staff of the President's Guest House (Blair and Blair-Lee Houses).

(e) (Reserved)

(f) Scientific, professional, and technical positions at grades GS-12 to GS-15 when filled by persons having special qualifications in foreign policy matters. Total employment under this authority may not exceed 4 years.

05. Department of the Treasury (Sch. B, 213.3205)

(a) Positions of Deputy Comptroller of the Currency, Chief National Bank Examiner, Assistant Chief National Bank Examiner, Regional Administrator of National Banks, Deputy Regional Administrator of National Banks, Assistant to the Comptroller of the Currency, National Bank Examiner, Associate National Bank Examiner, and Assistant National Bank Examiner, whose salaries are paid from assessments against national banks and other financial institutions.

(b)-(c) (Reserved)

(d) (Reserved) Transferred to 213.3211(b)

(e) (Reserved) Transferred to 213.3210(f)

06. Department of Defense (Sch. B, 213.3206)

(a) Office of the Secretary—

(1) (Reserved)

(2) Professional positions at GS-11 through GS-15 involving systems, costs, and economic analysis functions in the Office of the Assistant Secretary (Program Analysis and Evaluation); and in the Office of the Deputy Assistant Secretary (Systems Policy and Information) in the Office of the Assistant Secretary (Comptroller).

(3)-(4) (Reserved)

(5) Four Net Assessment Analysts.

(b) Interdepartmental activities—

(1) Seven positions to provide general administration, general art and information, photography, and/or visual information support to the White House Photographic Service.

(2) Eight positions, GS-15 or below, in the White House Military Office, providing support for airlift operations, special events, security, and/or administrative services to the Office of the President.

(c) National Defense University—

(1) Sixty-one positions of Professor, GS-13/15, for employment of any one individual on an initial appointment not to exceed 3 years, which may be renewed in any increment from 1 to 6 years indefinitely thereafter.

(d) General—

(1) One position of Law Enforcement Liaison Officer (Drugs), GS-301-15, U.S. European Command.

(2) Acquisition positions at grades GS-5 through GS-11, whose incumbents have successfully completed the required course of education as participants in the Department of Defense scholarship program authorized under 10 U.S.C. 1744.

(e) Office of the Inspector General—

(1) Positions of Criminal Investigator, GS-1811-5/15.

(f) Department of Defense Polygraph Institute, Fort McClellan, Alabama—

(1) One Director, GM-15.

(g) Defense Security Assistance Agency—

All faculty members with instructor and research duties at the Defense Institute of Security Assistance Management, Wright Patterson Air Force Base, Dayton, Ohio. Individual appointments under this authority will be for an initial 3-year period, which may be followed by an appointment of indefinite duration.

07. Department of the Army (Sch. B, 213.3207)

(a) U.S. Army Command and General Staff College—

(1) Seven positions of professors, instructors, and education specialists. Total employment of any individual under this authority may not exceed 4 years.

08. Department of the Navy (Sch. B, 213.3208)

(a) Naval Underwater Systems Center, New London, Connecticut—

(1) One position of Oceanographer, grade GS-14, to function as project director and manager for research in the weapons systems applications of ocean eddies.

(b) Armed Forces Staff College, Norfolk, Virginia—All civilian faculty positions of professors, instructors, and teachers on the staff of the Armed Forces Staff College, Norfolk, Virginia.

(c) Defense Personnel Security Research and Education Center—One Director and four Research Psychologists at the professor or GS-15 level.

(d) Marine Corps Command and Staff College—All civilian professor positions.

(e) Executive Dining facilities at the Pentagon—One position of Staff Assistant, GS-301, whose incumbent will manage the Navy's Executive Dining facilities at the Pentagon.

(f) (Reserved)

09. Department of the Air Force (Sch. B, 213.3209)

(a) Air Research Institute at the Air University, Maxwell Air Force Base, Alabama—Not to exceed four interdisciplinary positions for the Air Research Institute at the Air University, Maxwell Air Force Base, Alabama, for employment to complete studies proposed by candidates and acceptable to the Air Force. Initial appointments are made not to exceed 3 years, with an option to renew or extend the appointments in increments of 1-, 2-, or 3-years indefinitely thereafter.

(b)-(c) (Reserved)

(d) Air University—Positions of Instructor or professional academic staff at the Air University associated with courses of instruction of varying durations, for employment not to exceed 3 years, which may be renewed for an indefinite period thereafter.

(e) U.S. Air Force Academy, Colorado—One position of Director of Development and Alumni Programs, GS-301-13.

10. Department of Justice (Sch. B, 213.3210)

(a) Drug Enforcement Administration—

Criminal Investigator (Special Agent) positions in the Drug Enforcement Administration. New appointments may be made under this authority only at grades GS-5 through 11. Service under the authority may not exceed 4 years. Appointments made under this authority may be converted to career or career-conditional appointments under the provisions of Executive Order 12230, subject to conditions agreed upon between the Department and OPM.

(b) (Reserved)

(c) Not to exceed 400 positions at grades GS-5 through 15 assigned to regional task forces established to conduct special investigations to combat drug trafficking and organized crime.

(d) (Reserved)

(e) United States Trustees—Positions, other than secretarial, GS-6 through GS-15, requiring knowledge of the bankruptcy process, on the staff of the offices of United States Trustees or the Executive Office for U.S. Trustees.

(f) Bureau of Alcohol, Tobacco, and Firearms

(1) Positions, grades GS-5 through GS-12 (or equivalent), of Criminal Investigator. Service under this authority may not exceed 3 years and 120 days.

11. Department of Homeland Security (Sch. B, 213.3211)

(a) Coast Guard.

(1) (Reserved)

(b) Secret Service—Positions concerned with the protection of the life and safety of the President and members of his immediate family, or other persons for whom similar protective services are prescribed by law, when filled in accordance with special appointment procedures approved by OPM. Service under this authority may not exceed:

(1) a total of 4 years; or

(2) 120 days following completion of the service required for conversion under Executive Order 11203.

13. Department of Agriculture (Sch. B, 213.3213)

(a) Foreign Agricultural Service—

(1) Positions of a project nature involved in international technical assistance activities. Service under this authority may not exceed 5 years on a single project for any individual unless delayed completion of a project justifies an extension up to but not exceeding 2 years.

(b) General—

(1) Temporary positions of professional Research Scientists, GS-15 or below, in the Agricultural Research Service, Economic Research Service, and the Forest Service, when such positions are established to support the Research Associateship Program and are filled by persons having a doctoral degree in an appropriate field of study for research activities of mutual interest to appointees and the agency. Appointments are limited to proposals approved by the appropriate Administrator. Appointments may be made for initial periods not to exceed 2 years and may be extended for up to 2 additional years. Extensions beyond 4 years, up to a maximum of 2 additional years, may be granted, but only in very rare and unusual circumstances, as determined by the Human Resources Officer for the Research, Education, and Economics Mission Area, or the Human Resources Officer, Forest Service.

(2) Not to exceed 55 Executive Director positions, GM-301-14/15, with the State Rural Development Councils in support of the Presidential Rural Development Initiative.

14. Department of Commerce (Sch. B, 213.3214)

(a) Bureau of the Census—

(1) (Reserved)

(2) Not to exceed 50 Community Services Specialist positions at the equivalent of GS-5 through 12.

(b)-(c) (Reserved)

(d) National Telecommunications and Information Administration—

(1) Not to exceed 10 Telecommunications Policy Analysts, grades GS-11 through 15. Employment under this authority may not exceed 2 years.

15. Department of Labor (Sch. B, 213.3215)

(a) Administrative Review Board—Chair and a maximum of four additional Members.

(b) (Reserved)

(c) Bureau of International Labor Affairs—

(1) Positions in the Office of Foreign Relations, which are paid by outside funding sources under contracts for specific international labor market technical assistance projects. Appointments under this authority may not be extended beyond the expiration date of the project.

17. Department of Education (Sch. B, 213.3217)

(a) Seventy-five positions, not to exceed GS-13, of a professional or analytical nature when filled by persons, other than college faculty members or candidates working toward college degrees, who are participating in mid-career development programs authorized by Federal statute or regulation, or sponsored by private nonprofit organizations, when a period of work experience is a requirement for completion of an organized study program. Employment under this authority shall not exceed 1 year.

(b) Fifty positions, GS-7 through GS-11, concerned with advising on education policies, practices, and procedures under unusual and abnormal conditions. Persons employed under this provision must be bona fide elementary school and high school teachers. Appointments under this authority may be made for a period of not to exceed 1 year, and may, with the prior approval of the Office of Personnel Management, be extended for an additional period of 1 year.

27. Department of Veterans Affairs (Sch. B, 213.3227)

(a) Not to exceed 800 principal investigatory, scientific, professional, and technical positions at grades GS-11 and above in the medical research program.

(b) Not to exceed 25 Criminal Investigator (Undercover) positions, GS-1811, in grades 5 through 12, conducting undercover investigations in the Veterans Health Administration (VA) supervised by the VA, Office of Inspector General. Initial appointments shall be greater than 1 year, but not to exceed 4 years and may be extended indefinitely in 1-year increments.

28. Broadcasting Board of Governors (Sch. B, 213.3228)

(a) International Broadcasting Bureau—

(1) Not to exceed 200 positions at grades GS-15 and below in the Office of Cuba Broadcasting. Appointments may not be made under this authority to administrative, clerical, and technical support positions.

36. U.S. Soldiers' and Airmen's Home (Sch. B, 213.3236)

(a) (Reserved)

(b) Director, Health Care Services; Director, Member Services; Director, Logistics; and Director, Plans and Programs.

40.

(a) Executive Director, National Historical Publications and Records Commission.

48. National Aeronautics and Space Administration (Sch. B, 213.3248)

(a) Not to exceed 40 positions of Astronaut Candidates at grades GS-11 through 15. Employment under this authority may not exceed 3 years.

55. Social Security Administration (Sch. B, 213.3255)

(a) (Reserved)

74. Smithsonian Institution (Sch. B, 213.3274)

(a) (Reserved)

(b) Freer Gallery of Art—

(1) Not to exceed four Oriental Art Restoration Specialists at grades GS-9 through GS-15.

76. Appalachian Regional Commission (Sch. B, 213.3276)

(a) Two Program Coordinators.

78. Armed Forces Retirement Home (Sch. B, 213.3278)

(a) Naval Home, Gulfport, Mississippi—

(1) One Resource Management Officer position and one Public Works Officer position, GS/GM-15 and below.

82. National Foundation on the Arts and the Humanities (Sch. B, 213.3282)

(a) (Reserved)

(b) National Endowment for the Humanities—

(1) Professional positions at grades GS-11 through GS-15 engaged in the review, evaluation, and administration of grants supporting scholarship, education, and public programs in the humanities, the duties of which require in-depth knowledge of a discipline of the humanities.

91. Office of Personnel Management (Sch. B, 213.3291)

(a) Not to exceed eight positions of Associate Director at the Executive Seminar Centers at grades GS-13 and GS-14. Appointments may be made for any period up to 3 years and may be extended without prior approval for any individual. Not more than half of the authorized faculty positions at any one Executive Seminar Center may be filled under this authority.

(b) Federal Executive Institute—Twelve positions of faculty members at grades GS-13 through 15. Initial appointments under this authority may be made for any period up to 3 years and may be extended in 1-, 2-, or 3-year increments indefinitely thereafter.

Schedule C

Agency name | Organization name | Position title | Authorization No. | Effective date
DEPARTMENT OF AGRICULTURE | Office of the Secretary | Special Assistant | DA120098 | 8/10/2012
|  | Advisor | DA120105 | 8/31/2012
| Farm Service Agency | State Executive Director (9) | DA120089 | 7/3/2012
|  |  | DA120097 | 8/1/2012
|  |  | DA120107 | 9/13/2012
|  |  | DA130049 | 4/15/2013
|  |  | DA130067 | 5/17/2013
|  |  | DA130048 | 5/21/2013
|  |  | DA130068 | 5/31/2013
|  |  | DA130074 | 6/13/2013
|  |  | DA130098 | 6/25/2013
| Natural Resources Conservation Service | Confidential Assistant (External Liaison) | DA130001 | 10/16/2012
|  | Special Assistant | DA130093 | 6/13/2013
| Office of the Assistant Secretary for Administration | Senior Advisor (2) | DA130039 DA130104 | 4/4/2013 6/28/2013
| Office of the Assistant Secretary for Civil Rights | Special Assistant | DA130054 | 5/30/2013
| Office of the Assistant Secretary for Congressional Relations | Special Assistant (2) | DA120092 DA130022 | 7/6/2012 1/25/2013
|  | Staff Assistant (Legislative Analyst) | DA130095 | 6/13/2013
| Office of the Secretary | Deputy White House Liaison | DA120109 | 9/19/2012
|  | White House Liaison | DA130077 | 5/31/2013
| Office of the Under Secretary for Farm and Foreign Agricultural Service | State Executive Director | DA130056 | 4/30/2013
| Office of the Under Secretary for Food, Nutrition and Consumer Services | Senior Advisor | DA130063 | 5/3/2013
| Office of the Under Secretary for Rural Development | Special Assistant | DA130031 | 4/4/2013
| Office of the Under Secretary for Rural Development | National Coordinator, Local and Regional Food Systems | DA130073 | 6/3/2013
| Office of the Under Secretary for Natural Resources and Environment | Staff Assistant | DA120091 | 7/6/2012
| Office of the Under Secretary for Natural Resources and Environment | Senior Advisor | DA130108 | 6/28/2013
| Rural Business Service | Chief of Staff | DA130111 | 6/28/2013
| Rural Housing Service | State Director (4) | DA120064 | 8/13/2012
|  |  | DA130053 | 4/22/2013
|  |  | DA130064 | 5/3/2013
|  |  | DA130097 | 6/14/2013
|  | Chief of Staff | DA130050 | 4/18/2013
DEPARTMENT OF COMMERCE | Advocacy Center | Special Assistant | DC120141 | 7/24/2012
| Assistant Secretary and Director General for United States and Foreign Commercial Service | Special Assistant | DC130015 | 12/13/2012
| Assistant Secretary for Market Access and Compliance | Senior Advisor Special Advisor | DC120139 DC130057 | 7/24/2012 6/7/2013
| Deputy Assistant Secretary for Domestic Operations | Special Assistant | DC130061 | 6/14/2013
| Office of the Deputy Assistant Secretary for Legislative and Intergovernmental Affairs | Senior Advisor | DC130010 | 11/6/2012
| Office of the Executive Secretariat | Special Assistant | DC130012 | 11/6/2012
|  | Confidential Assistant | DC130017 | 1/4/2013
| Office of Policy and Strategic Planning | Special Assistant Deputy Director, Office of Policy and Strategic Planning | DC120148 DC130030 | 8/7/2012 3/18/2013
| Office of Public Affairs | Press Secretary | DC120146 | 7/25/2012
|  | Press Assistant | DC130044 | 5/9/2013
| Office of the Assistant Secretary for Economic Development | Special Assistant Special Advisor | DC120154 DC120158 | 8/23/2012 10/2/2012
| Office of the Assistant Secretary for Manufacturing and Services | Senior Advisor Deputy Director, Office of Advisory Committees | DC120157 DC130002 | 9/26/2012 10/12/2012
| Office of the Chief Economist | Special Assistant | DC120149 | 8/7/2012
| Office of the Chief Financial Officer and Assistant Secretary for Administration | Senior Director for Performance and Business Process Improvement | DC120136 | 7/10/2012
| Office of the Chief of Staff | Director of Advance | DC120134 | 7/3/2012
|  | Confidential Assistant | DC120152 | 8/13/2012
|  | Protocol Officer and Advance Assistant | DC130034 | 3/22/2013
| Office of the Deputy Assistant Secretary for Administration | Special Assistant | DC130060 | 6/14/2013
| Office of the Deputy Secretary | Special Assistant | DC130013 | 11/29/2012
| Office of the Director | Associate Director for Legislative, Education and Intergovernmental Affairs | DC120137 | 7/10/2012
| Office of the General Counsel | Deputy General Counsel for Strategic Initiatives | DC130001 | 10/3/2012
| Office of the Under Secretary | Chief Communications Officer | DC120150 | 8/13/2012
|  | Director, Office of Legislative Affairs | DC130042 | 4/30/2013
|  | Special Assistant | DC130047 | 5/29/2013
|  | Deputy Chief of Staff | DC120129 | 7/10/2012
|  | Senior Advisor for Oceans and Atmosphere and the Principal Deputy Under Secretary | DC120127 | 8/13/2012
| Office of the White House Liaison | Deputy Director, Office of White House Liaison | DC130024 | 2/19/2013
|  | Special Advisor | DC130025 | 2/19/2013
| Trade Promotion and the U.S. and Foreign Commercial Service | Special Assistant | DC130041 | 4/30/2013
COMMISSION ON CIVIL RIGHTS | Commissioners | Special Assistant | CC120004 | 8/27/2012
COUNCIL ON ENVIRONMENTAL QUALITY | Council on Environmental Quality | Special Assistant (Communications) | EQ120005 | 7/3/2012
|  | Special Assistant (Public Engagement) | EQ120006 | 7/6/2012
|  | Special Assistant (Land and Water Ecosystems) | EQ130001 | 1/29/2013
|  | Special Assistant (Energy/Climate Change) | EQ130002 | 2/6/2013
DEPARTMENT OF DEFENSE | Assistant to the Secretary of Defense for Nuclear and Chemical and Biological Defense Programs | Special Assistant (Nuclear, Chemical, and Biological Defense Programs) | DD120110 | 9/28/2012
| Deputy Under Secretary of Defense (Asian and Pacific Security Affairs) | Senior Advisor for Regional Policy and Integration | DD130001 | 10/9/2012
| Office of Assistant Secretary of Defense (Legislative Affairs) | Special Assistant (2) | DD120105 DD130075 | 8/13/2012 5/22/2013
| Office of Assistant Secretary of Defense (Public Affairs) | Special Assistant Speechwriter (5) | DD130008 DD130012 | 11/1/2012 11/9/2012
|  |  | DD130025 | 1/11/2013
|  |  | DD130026 | 1/18/2013
|  |  | DD130058 | 5/15/2013
|  |  | DD130081 | 6/21/2013
|  | Research Assistant | DD130070 | 5/16/2013
| Office of Assistant Secretary of Defense (Reserve Affairs) | Special Assistant(Reserve Affairs) | DD130022 | 12/12/2012
| Office of Principal Deputy Under Secretary for Policy | Special Assistant for Policy (2) | DD130004 DD130031 | 10/19/2012 1/25/2013
|  | Special Assistant for Strategy, Plans and Forces (2) | DD130041 DD130074 | 2/13/2013 5/30/2013
| Office of the Assistant Secretary of Defense (Asian and Pacific Security Affairs) | Special Assistant for South and Southeast Asia (2) | DD120106 DD120128 | 8/21/2012 10/16/2012
|  | Special Assistant for Asian and Pacific Security Affairs | DD130003 | 10/19/2012
|  | Special Assistant | DD130023 | 12/12/2012
| Office of the Assistant Secretary of Defense (Global Strategic Affairs) | Special Assistant for Cyber Policy Special Assistant for Global Strategic Affairs (2) | DD130028 DD130032 DD130036 | 12/21/2012 2/7/2013 4/30/2013
| Office of the Assistant Secretary of Defense (Homeland Defense and America's Security Affairs) | Special Assistant for Homeland Defense and Americas' Security Affairs | DD130050 | 4/9/2013
|  | Special Assistant (Western Hemisphere Affairs) | DD130076 | 5/30/2013
| Office of the Assistant Secretary of Defense (International Security Affairs) | Special Assistant for International Security Affairs | DD130027 | 12/18/2012
|  | Special Assistant for Middle East Affairs | DD130034 | 2/8/2013
| Office of the Assistant Secretary of Defense (Special Operations/Low Intensity Conflict and Interdependent Capabilities) | Special Assistant (Special Operations and Low Intensity Conflict) | DD120104 | 8/2/2012
| Office of the Secretary | Confidential Assistant | DD120118 | 9/7/2012
|  | Special Assistant for Protocol | DD130037 | 2/15/2013
|  | Deputy White House Liaison | DD130048 | 3/22/2013
|  | Protocol Officer | DD130068 | 5/15/2013
| Office of the Under Secretary of Defense (Acquisition, Technology, and Logistics) | Special Assistant (Manufacturing and Industrial Base Policy) | DD130044 | 3/29/2013
| Office of the Under Secretary of Defense (Personnel and Readiness) | Special Assistant for Personnel and Readiness | DD120126 | 10/17/2012
|  | Director, Defense Suicide Prevention Office | DD130046 | 4/22/2013
| Office of the Under Secretary of Defense (Policy) | Staff Assistant Principal Director for Strategy | DD120100 DD130011 | 8/1/2012 10/31/2012
| Washington Headquarters Services | Defense Fellow (9) | DD120086 | 7/3/2012
|  |  | DD120089 | 7/3/2012
|  |  | DD120090 | 7/3/2012
|  |  | DD120091 | 7/3/2012
|  |  | DD120092 | 7/3/2012
|  |  | DD120096 | 7/12/2012
|  |  | DD130043 | 2/13/2013
|  |  | DD130057 | 4/5/2013
|  |  | DD130080 | 6/13/2013
|  | Staff Assistant (2) | DD130009 | 11/9/2012
|  |  | DD130042 | 2/15/2013
DEPARTMENT OF THE AIR FORCE | Office of the Assistant Secretary for Financial Management and Comptroller | Special Assistant, Financial Administration and Programs | DF130017 | 5/15/2013
DEPARTMENT OF THE ARMY | Office of the Assistant Secretary (Installations and Environment) | Special Advisor | DW120035 | 8/13/2012
| Office of the General Counsel | Special Assistant | DW120039 | 9/18/2012
DEPARTMENT OF THE NAVY | Office of the General Counsel | Attorney-Advisor (2) | DN120039 | 8/24/2012
|  |  | DN120040 | 10/31/2012
| Office of the Under Secretary | Special Assistant | DN120047 | 8/13/2012
DEPARTMENT OF EDUCATION | Office for Civil Rights | Deputy Assistant Secretary for Policy | DB120095 | 10/22/2012
|  | Confidential Assistant | DB130033 | 5/17/2013
|  | Senior Counsel | DB130034 | 6/28/2013
| Office of Communications and Outreach | Special Assistant Confidential Assistant | DB120083 DB120089 | 8/30/2012 9/21/2012
|  | Deputy Assistant Secretary for Communication Development | DB130008 | 1/17/2013
|  | Confidential Assistant (2) | DB130020 | 2/27/2013
|  |  | DB130028 | 5/6/2013
|  | Deputy Press Secretary for Strategic Communications | DB130025 | 4/19/2013
|  | Assistant Press Secretary | DB130027 | 4/19/2013
|  | Press Secretary | DB130032 | 4/19/2013
| Office of Elementary and Secondary Education | Chief of Staff Confidential Assistant | DB120090 DB120094 | 10/12/2012 9/26/2012
|  | Deputy Assistant Secretary for Policy and Strategic Initiatives | DB130029 | 5/17/2013
|  | Special Assistant (4) | DB120093 | 9/19/2012
|  |  | DB120096 | 9/24/2012
|  |  | DB120099 | 11/20/2012
|  |  | DB130023 | 3/14/2013
| Office of Innovation and Improvement | Special Assistant Confidential Assistant | DB120091 DB120102 | 9/14/2012 10/2/2012
| Office of Legislation and Congressional Affairs | Confidential Assistant Special Assistant | DB120080 DB130021 | 7/17/2012 3/5/2013
| Office of Planning, Evaluation and Policy Development | Confidential Assistant Deputy Assistant Secretary for Planning and Policy Development | DB120103 DB120098 | 10/12/2012 1/11/2013
|  | Senior Advisor for Stem | DB120084 | 8/1/2012
|  | Special Assistant (5) | DB120077 | 7/19/2012
|  |  | DB120086 | 8/20/2012
|  |  | DB130030 | 5/17/2013
|  |  | DB130035 | 5/21/2013
|  |  | DB130038 | 5/30/2013
| Office of Postsecondary Education | Special Assistant | DB120078 | 9/12/2012
|  | Confidential Assistant | DB120100 | 9/24/2012
|  | Deputy Assistant Secretary for International and Foreign Language Education | DB130031 | 4/12/2013
| Office of the Deputy Secretary | Confidential Assistant (5) | DB120071 | 8/16/2012
|  |  | DB130015 | 2/8/2013
|  |  | DB130044 | 5/15/2013
|  |  | DB130037 | 5/30/2013
|  |  | DB130052 | 6/24/2013
|  | Special Assistant (2) | DB130019 | 2/27/2013
|  |  | DB130024 | 4/19/2013
| Office of the Secretary | Confidential Assistant (7) | DB120069 | 7/19/2012
|  |  | DB120035 | 9/7/2012
|  |  | DB130001 | 10/15/2012
|  |  | DB130014 | 2/6/2013
|  |  | DB130017 | 3/5/2013
|  |  | DB130041 | 4/30/2013
|  |  | DB130045 | 5/31/2013
|  | Director, Scheduling and Advance | DB130012 | 3/27/2013
|  | Special Assistant | DB130042 | 5/8/2013
| Office of the Under Secretary | Chief of Staff | DB130043 | 5/8/2013
|  | Confidential Assistant (4) | DB120088 | 9/24/2012
|  |  | DB120101 | 1/11/2013
|  |  | DB130013 | 2/6/2013
|  |  | DB130039 | 5/22/2013
|  | Deputy Director of the White House Initiative on American Indian and Alaska Native Education | DB120072 | 8/1/2012
|  | Deputy Under Secretary | DB130047 | 6/28/2013
|  | Executive Director, White House Initiative for the Employment of African Americans | DB130018 | 2/22/2013
|  | Executive Director, White House Initiative on Educational Excellence for Hispanics | DB130022 | 4/3/2013
|  | Special Assistant (3) | DB120087 | 8/24/2012
|  |  | DB130004 | 11/15/2012
|  |  | DB130011 | 1/25/2013
| Office of Vocational and Adult Education | Confidential Assistant (2) | DB120082 DB130036 | 7/30/2012 5/17/2013
|  | Deputy Assistant Secretary for Community Colleges | DB130048 | 6/6/2013
|  | Special Assistant (2) | DB120081 | 11/15/2012
|  |  | DB130010 | 2/27/2013
DEPARTMENT OF ENERGY | Assistant Secretary for Congressional and Intergovernmental Affairs | Legislative Affairs Specialist Senior Legislative Advisor Deputy Assistant Secretary for Energy Policy | DE120143 DE130033 DE130066 | 10/11/2012 5/21/2013 6/19/2013
| Assistant Secretary for Energy Efficiency and Renewable Energy | Special Advisor Director of Legislative Affairs | DE120113 DE120145 | 7/6/2012 10/2/2012
|  | Chief of Staff | DE130037 | 5/15/2013
|  | Special Assistant for Clean Energy Manufacturing and Commercialization | DE130039 | 6/3/2013
|  | Director of Legislative Affairs | DE130053 | 6/18/2013
|  | Senior Advisor | DE130070 | 6/25/2013
| Associate Administrator for External Affairs | Congressional Affairs Specialist Deputy Director of Congressional Affairs | DE130062 DE130063 | 6/18/2013 6/28/2013
| Office of Assistant Secretary for Policy and International Affairs | Special Advisor Special Assistant | DE120125 DE130031 | 8/13/2012 4/18/2013
| Office of Economic Impact and Diversity | Special Advisor | DE120116 | 8/13/2012
| Office of Environmental Management | Special Assistant | DE120122 | 7/24/2012
| Office of Management | Special Assistant | DE120115 | 7/19/2012
|  | Deputy Director, Office of Scheduling and Advance | DE130071 | 6/28/2013
| Office of Public Affairs | Director of User Experience and Digital Technologies | DE120121 | 8/1/2012
|  | Speechwriter | DE120130 | 8/13/2012
|  | Project Coordinator for Digital Media | DE130003 | 11/15/2012
|  | Press Secretary | DE130021 | 3/7/2013
|  | Deputy Press Secretary for Clean Energy | DE130022 | 3/21/2013
|  | Managing Editor | DE130073 | 6/27/2013
| Office of Science | Special Advisor | DE130041 | 5/21/2013
| Office of the Deputy Secretary | Special Assistant | DE130038 | 5/17/2013
| Office of the Secretary | Special Assistant (3) | DE120119 | 7/20/2012
|  |  | DE130042 | 5/15/2013
|  |  | DE130067 | 6/28/2013
| Office of the Under Secretary | Special Assistant for Finance | DE120127 | 8/22/2012
ENVIRONMENTAL PROTECTION AGENCY | Office of the Administrator | Director of Scheduling and Advance | EP130017 | 4/17/2013
|  | White House Liaison | EP130029 | 6/14/2013
| Office of the Associate Administrator for Congressional and Intergovernmental Relations | Senior Advisor Deputy Associate Administrator for Intergovernmental Relations | EP130019 EP130024 | 5/1/2013 5/29/2013
| Office of the Associate Administrator for External affairs and Environmental Education | Deputy Associate Administrator for External Affairs and Environmental Education | EP120042 | 8/13/2012
|  | Press Secretary | EP130011 | 1/24/2013
|  | Deputy Press Secretary | EP130015 | 4/22/2013
|  | Director for Internal Communications | EP130030 | 6/19/2013
EXPORT-IMPORT BANK | Office of Communications | Speechwriter | EB120004 | 7/6/2012
|  | Senior Vice President, Communications | EB120005 | 8/29/2012
| Office of the Chairman | Chief of Staff | EB130003 | 5/6/2013
FARM CREDIT ADMINISTRATION | Office of Congressional and Public Affairs | Associate Director of Congressional Affairs | FL130003 | 6/11/2013
FEDERAL COMMUNICATIONS COMMISSION | Office of Media Relations Office of the Chairwoman | Public Affairs Specialist Special Assistant | FC120014 FC130004 | 9/25/2012 5/22/2013
FEDERAL ENERGY REGULATORY COMMISSION | Office of the Chairman | Secretary | DR130003 | 12/20/2012
FEDERAL HOUSING FINANCE AGENCY | Federal Housing Finance Agency | Confidential Assistant | HA130001 | 1/16/2013
FEDERAL MINE SAFETY AND HEALTH REVIEW COMMISSION | Office of the Commissioner | Attorney Advisor (General) | FR120001 | 8/17/2012
FEDERAL TRADE COMMISSION | Office of the Chairman | Confidential Assistant | FT130004 | 4/15/2013
GENERAL SERVICES ADMINISTRATION | Northwest/Arctic Region Office of Communications and Marketing | Special Assistant Deputy Associate Administrator for Media Affairs | GS120027 GS130007 | 9/21/2012 6/10/2013
|  | Press Secretary | GS130008 | 6/10/2013
| Office of Congressional and Intergovernmental Affairs | Deputy Associate Administrator for Policy | GS130002 | 4/4/2013
| Office of the Administrator | Deputy Chief of Staff (2) | GS120024 | 8/14/2012
|  |  | GS130005 | 5/1/2013
|  | Deputy Press Secretary | GS120026 | 9/21/2012
|  | Press Secretary | GS120023 | 7/12/2012
|  | Senior Advisor | GS130012 | 6/17/2013
|  | Special Assistant | GS130004 | 4/23/2013
|  | White House Liaison | GS130011 | 6/10/2013
| Public Buildings Service | Chief of Staff | GS130010 | 5/16/2013
|  | Special Assistant | GS130013 | 6/17/2013
DEPARTMENT OF HEALTH AND HUMAN SERVICES | Administration for Community Living | Special Assistant | DH120130 | 8/10/2012
| Office for Civil Rights | Special Assistant | DH120141 | 9/26/2012
| Office of Intergovernmental and External Affairs | Director of Consumer Outreach Director of Provider Outreach | DH130066 DH130089 | 5/17/2013 6/17/2013
|  | Regional Director, Atlanta, Georgia, Region IV | DH120122 | 7/24/2012
|  | Regional Director, Kansas City, Missouri, Region VII | DH130041 | 2/19/2013
|  | Senior Advisor | DH120143 | 10/2/2012
|  | Special Assistant | DH130069 | 6/3/2013
| Office of the Assistant Secretary for Health | Confidential Assistant | DH120132 | 9/6/2012
| Office of the Assistant Secretary for Legislation | Special Assistant | DH130036 | 2/8/2013
| Office of the Assistant Secretary for Planning and Evaluation | Director of Coverage Policy (Office of Health Reform) | DH130018 | 1/17/2013
| Office of the Assistant Secretary for Preparedness and Response | Confidential Assistant | DH130049 | 3/18/2013
| Office of the Assistant Secretary for Public Affairs | Communications Director for Human Services | DH130007 | 11/9/2012
|  | Confidential Assistant | DH130012 | 12/7/2012
|  | Director of Public Health Initiatives | DH130060 | 4/30/2013
|  | Press Secretary | DH130054 | 4/16/2013
|  | Rollout Director | DH130061 | 4/18/2013
|  | Senior Advisor for Strategic Planning | DH130038 | 2/15/2013
|  | Senior Speechwriter | DH130040 | 2/15/2013
| Office of the Deputy Secretary | Special Assistant | DH130053 | 4/4/2013
| Office of the General Counsel | Special Assistant | DH130026 | 3/5/2013
| Office of the Secretary | Confidential Assistant | DH130020 | 1/24/2013
|  | Deputy Director for Scheduling and Advance | DH130071 | 5/31/2013
|  | Director of Scheduling and Advance | DH130059 | 4/12/2013
|  | Special Assistant | DH130058 | 4/12/2013
|  | White House Liaison for Political Personnel, Boards and Commissions | DH130091 | 6/13/2013
DEPARTMENT OF HOMELAND SECURITY | Federal Emergency Management Agency | Director of Individual and Community Preparedness | DM130059 | 4/5/2013
| Office of Assistant Secretary for Legislative Affairs | Chief of Staff | DM120181 | 10/4/2012
| Office of the Assistant Secretary for Intergovernmental Affairs | Confidential Assistant Intergovernmental Affairs Coordinator | DM130009 DM130061 | 10/17/2012 4/5/2013
| Office of the Assistant Secretary for Policy | Senior Business Liaison Confidential Assistant | DM120152 DM120169 | 8/17/2012 9/11/2012
|  | Chief of Staff | DM130011 | 10/17/2012
| Office of the Assistant Secretary for Public Affairs | Public Affairs and Strategic Communications Assistant | DM120151 | 7/30/2012
|  | Special Projects Coordinator | DM120153 | 8/1/2012
|  | News Media Specialist | DM120154 | 8/1/2012
|  | Director of Communications and Advisor | DM120156 | 8/1/2012
| Office of the Chief of Staff | Deputy Chief of Staff | DM130052 | 4/15/2013
|  | Special Assistant (3) | DM120158 | 8/1/2012
|  |  | DM130115 | 6/3/2013
|  |  | DM130137 | 6/25/2013
| Office of the Executive Secretary for Operations and Administration | Secretary—Briefing Book Coordinator | DM120162 | 8/14/2012
| Office of the General Counsel | Special Assistant | DM130029 | 1/23/2013
| Office of the Under Secretary for National Protection and Programs Directorate | Confidential Assistant Cyber Security Strategist Special Assistant | DM130107 DM130098 DM120155 | 5/16/2013 5/3/2013 7/30/2012
| Office of the Under Secretary for Science and Technology | Senior Liaison Officer Special Assistant for Science and Technology | DM130043 DM130110 | 2/22/2013 5/30/2013
| U.S. Citizenship and Immigration Services | Special Assistant | DM130041 | 2/15/2013
| U.S. Customs and Border Protection | Policy Advisor Senior Advisor for Strategic Communications | DM130080 DM120145 | 4/15/2013 7/10/2012
|  | Special Advisor | DM130024 | 12/12/2012
DEPARTMENT OF HOUSING AND URBAN DEVELOPMENT | Office of Housing Office of Policy Development and Research | Policy Advisor Senior Advisor for Housing Finance | DU130013 DU130015 | 5/17/2013 5/30/2013
| Office of Public Affairs | Assistant Press Secretary | DU120043 | 8/1/2012
|  | Chief External Affairs Officer/General Deputy Assistant Secretary for Public Affairs | DU120048 | 9/14/2012
|  | Press Secretary | DU130008 | 4/2/2013
|  | Senior Speechwriter | DU130028 | 6/27/2013
| Office of the Chief Human Capital Officer | Director, Office of Executive Scheduling and Operations | DU130014 | 5/16/2013
| Office of the Deputy Secretary | Senior Advisor | DU120044 | 9/5/2012
| Office of the General Counsel | Special Assistant | DU120045 | 8/21/2012
|  | Senior Counsel | DU130027 | 6/27/2013
| Office of the Secretary | Senior Advisor for Housing and Services | DU130007 | 2/20/2013
|  | Senior Advisor for Housing Finance | DU130017 | 5/31/2013
DEPARTMENT OF THE INTERIOR | Assistant Secretary—Fish and Wildlife and Parks | Senior Advisor for Fish, Wildlife and Parks | DI130041 | 6/26/2013
| Assistant Secretary—Indian Affairs | Senior Advisor-Indian Affairs | DI130024 | 6/4/2013
| Assistant Secretary—Land and Minerals Management | Special Assistant | DI120060 | 8/20/2012
| Assistant Secretary—Policy, Management and Budget | Special Assistant for Policy, Management and Budget | DI130023 | 5/9/2013
| Assistant Secretary—Water and Science | Counselor-Water and Science | DI130036 | 6/7/2013
| Bureau of Land Management | Advisor | DI120061 | 8/16/2012
| National Park Service | Advisor, National Park Service | DI130019 | 4/11/2013
|  | Assistant Coordinator for the Centennial | DI130018 | 4/11/2013
| Office of Congressional and Legislative Affairs | Deputy Director Senior Counsel | DI130011 DI130031 | 3/4/2013 5/22/2013
| Secretary's Immediate Office | Director of Scheduling and Advance | DI130042 | 6/26/2013
|  | Press Assistant (2) | DI130014 | 3/21/2013
|  |  | DI130022 | 4/22/2013
|  | Press Secretary | DI130007 | 1/15/2013
|  | Special Assistant (2) | DI130015 | 3/27/2013
|  |  | DI130035 | 6/7/2013
|  | Special Assistant for Advance (2) | DI120065 | 8/31/2012
|  |  | DI130010 | 2/22/2013
|  | Special Assistant for Scheduling | DI120064 | 8/31/2012
DEPARTMENT OF JUSTICE | Antitrust Division | Senior Counsel | DJ130066 | 6/13/2013
| Civil Division | Counsel (2) | DJ120095 | 9/11/2012
|  |  | DJ120102 | 10/2/2012
| Civil Rights Division | Senior Counsel (2) | DJ120098 | 9/11/2012
|  |  | DJ130013 | 11/20/2012
| Community Relations Service | Senior Counsel | DJ130029 | 2/6/2013
| Criminal Division | Senior Counsel | DJ130051 | 5/1/2013
| Environment and Natural Resources Division | Special Assistant and Counsel | DJ120097 | 9/11/2012
| Executive Office for United States Attorneys | Counsel | DJ130035 | 2/27/2013
| Office of Legal Policy | Researcher | DJ120089 | 8/20/2012
| Office of Public Affairs | Deputy Speechwriter | DJ130058 | 6/4/2013
|  | Press Assistant | DJ130006 | 10/31/2012
|  | Public Affairs Specialist (2) | DJ120103 | 10/2/2012
|  |  | DJ130004 | 10/19/2012
| Office of the Associate Attorney General | Counsel and Chief of Staff | DJ120096 | 9/11/2012
| Office of the Attorney General | Director of Advance | DJ130069 | 6/21/2013
|  | Special Assistant (2) | DJ120079 | 7/2/2012
|  |  | DJ130054 | 5/16/2013
| Office of the Deputy Attorney General | Counsel (2) | DJ130034 | 2/22/2013
|  |  | DJ130044 | 4/9/2013
| Tax Division | Confidential Assistant | DJ130046 | 4/9/2013
DEPARTMENT OF LABOR | Employment and Training Administration | Policy Advisor Senior Policy Advisor | DL130007 DL120070 | 1/25/2013 7/10/2012
| Mine Safety and Health Administration | Senior Policy Advisor | DL120075 | 8/31/2012
| Occupational Safety and Health Administration | Chief of Staff Senior Policy Advisor | DL130032 DL130030 | 5/21/2013 5/21/2013
| Office of Congressional and Intergovernmental Affairs | Deputy Director of Intergovernmental Affairs | DL130009 | 2/5/2013
|  | Legislative Assistant | DL130008 | 2/5/2013
|  | Legislative Officer | DL130006 | 2/5/2013
|  | Regional Representative | DL130016 | 4/11/2013
|  | Senior Counselor | DL120087 | 10/2/2012
|  | Senior Legislative Officer | DL130014 | 3/15/2013
| Office of Disability Employment Policy | Chief of Staff | DL130024 | 5/21/2013
| Office of Public Affairs | Speech Writer | DL130011 | 2/8/2013
| Office of the Assistant Secretary for Policy | Senior Policy Advisor | DL130023 | 4/18/2013
| Office of the Deputy Secretary | Policy Advisor | DL130018 | 4/4/2013
| Office of the Secretary | Chief Economist | DL130010 | 2/8/2013
|  | Deputy Director of Scheduling and Advance | DL130013 | 3/22/2013
|  | Executive Assistant | DL130012 | 3/13/2013
|  | Special Assistant (2) | DL120072 | 7/25/2012
|  |  | DL130019 | 5/1/2013
|  | White House Liaison | DL130029 | 5/7/2013
| Office of the Solicitor | Senior Counselor | DL130015 | 5/17/2013
|  | Special Counsel | DL130036 | 6/14/2013
| Veterans Employment and Training Service | Chief of Staff | DL130035 | 6/21/2013
NATIONAL AERONAUTICS AND SPACE ADMINISTRATION | Office of Chief of Staff | Special Assistant White House Liaison | NN120061 NN120071 | 7/12/2012 10/4/2012
| Office of Legislative and Intergovernmental Affairs | Executive Officer | NN120068 | 10/4/2012
NATIONAL ENDOWMENT FOR THE ARTS | National Endowment for the Arts | Confidential Assistant | NA130001 | 5/31/2013
OFFICE OF MANAGEMENT AND BUDGET | Communications National Security Programs | Press Secretary Confidential Assistant | BO130007 BO120030 | 1/11/2013 7/6/2012
| Office of the Director | Assistant | BO130016 | 5/9/2013
|  | Special Assistant | BO130022 | 6/24/2013
OFFICE OF NATIONAL DRUG CONTROL POLICY | Office of Intergovernmental Public Liaison | Public Engagement Specialist | QQ120004 | 7/20/2012
| Office of Legislative Affairs | Associate Director (Legislative Affairs) | QQ130003 | 6/19/2013
| Office of Public Affairs | Special Assistant for Strategic Communications | QQ130001 | 3/26/2013
| Office of the Director | Senior Policy Analyst | QQ120005 | 8/10/2012
OFFICE OF PERSONNEL MANAGEMENT | Office of the Director Office of the General Counsel | Special Assistant Deputy General Counsel for Policy | PM120019 PM130007 | 8/22/2012 4/4/2013
OFFICE OF SCIENCE AND TECHNOLOGY POLICY | Office of Science and Technology Policy | Policy Advisor | TS120005 | 8/15/2012
OFFICE OF THE UNITED STATES TRADE REPRESENTATIVE | Office of the Ambassador | Confidential Assistant Deputy Chief of Staff | TN130003 TN130004 | 6/3/2013 6/18/2013
PRESIDENT'S COMMISSION ON WHITE HOUSE FELLOWSHIPS | President's Commission on White House Fellowships | Special Assistant Associate Director (2) | WH120003 WH130001 | 8/23/2012 10/19/2012
|  |  | WH130002 | 11/21/2012
SECURITIES AND EXCHANGE COMMISSION | Division of Investment Management | Confidential Assistant | SE130002 | 1/11/2013
| Division of Risk, Strategy, and Financial Innovation | Confidential Assistant | SE130001 | 11/6/2012
| Office of the Chairman | Deputy Director, Office of Legislative and Intergovernmental Affairs | SE120005 | 7/26/2012
|  | Confidential Assistant (3) | SE130003 | 2/20/2013
|  |  | SE130004 | 2/20/2013
|  |  | SE130005 | 4/30/2013
SELECTIVE SERVICE SYSTEM | Office of the Director | Chief of Staff | SS120004 | 9/21/2012
SMALL BUSINESS ADMINISTRATION | Office of Capital Access | Deputy Associate Administrator for Capital Access | SB120034 | 8/16/2012
|  | Special Advisor for Capital Access | SB130005 | 2/15/2013
| Office of Communications and Public Liaison | Special Assistant Deputy Press Secretary for the Office of Communications and Public Liaison | SB120038 SB130002 | 9/14/2012 1/16/2013
| Office of Congressional and Legislative Affairs | Special Advisor | SB130015 | 6/26/2013
| Office of Entrepreneurial Development | Director of Clusters and Skills Initiatives | SB120027 | 7/13/2012
| Office of Field Operations | Regional Administrator, Region I, Boston, Massachusetts | SB130013 | 5/17/2013
|  | Regional Administrator, Region III, Philadelphia, Pennsylvania | SB120037 | 8/31/2012
|  | Regional Administrator, Region VIII, Denver, Colorado | SB130012 | 5/2/2013
|  | Special Advisor for Field Operations | SB130009 | 3/29/2013
| Office of International Trade | Senior Advisor for International Trade | SB120035 | 8/20/2012
| Office of Investment | Special Assistant for the Associate Administrator for Investment and Innovation | SB130004 | 5/6/2013
| Office of the Administrator | Senior Advisor | SB120028 | 7/12/2012
|  | Special Advisor | SB120033 | 8/2/2012
|  | Policy Advisor (2) | SB120032 | 8/10/2012
|  |  | SB130008 | 3/8/2013
|  | Special Assistant | SB130011 | 5/3/2013
DEPARTMENT OF STATE | Bureau of Legislative Affairs | Senior Advisor | DS120097 | 7/6/2012
| Office of the Under Secretary for Civilian Security, Democracy, and Human Rights | Senior Advisor | DS120098 | 7/12/2012
| Office of the Under Secretary for Arms Control and International Security Affairs | Staff Assistant | DS120096 | 7/19/2012
| Office of the Under Secretary for Public Diplomacy and Public Affairs | Staff Assistant | DS120090 | 7/20/2012
| Bureau of Legislative Affairs | Legislative Management Officer | DS120103 | 8/3/2012
| Foreign Policy Planning Staff | Special Assistant (2) | DS120111 | 8/23/2012
|  |  | DS120112 | 8/23/2012
| Office of Global Food Security | Special Assistant | DS120120 | 9/13/2012
| Office of the Global Women's Issues | Staff Assistant | DS120117 | 9/21/2012
| Bureau for Education and Cultural Affairs | Special Assistant | DS120121 | 10/4/2012
| Bureau of Economic and Business Affairs | Staff Assistant | DS120122 | 10/11/2012
| Bureau of Legislative Affairs | Legislative Management Officer (2) | DS120118 | 10/14/2012
|  |  | DS130002 | 10/15/2012
| Office of the Chief of Protocol | Protocol Officer | DS130018 | 11/20/2012
| Office of International Information Programs | Senior Advisor | DS120127 | 11/27/2012
| Bureau of Energy Resources | Staff Assistant | DS130013 | 11/27/2012
| Office of the Chief of Protocol | Public Affairs Specialist | DS130020 | 12/3/2012
| Bureau of East Asian and Pacific Affairs | Deputy Assistant Secretary | DS130027 | 1/11/2013
| Bureau of Public Affairs | Deputy Assistant Secretary | DS130051 | 3/7/2013
| Bureau of International Organizational Affairs | Senior Advisor | DS130025 | 3/26/2013
| Foreign Policy Planning Staff | Senior Advisor | DS130056 | 3/26/2013
| Office of the Counselor | Senior Advisor | DS130026 | 4/26/2013
| Office of the Secretary | Special Assistant | DS130052 | 5/2/2013
|  | Staff Assistant (2) | DS130062 | 5/2/2013
|  |  | DS130063 | 5/2/2013
| Foreign Policy Planning Staff | Chief Speechwriter | DS130064 | 5/2/2013
| Office of the Chief of Protocol | Assistant Chief of Protocol (Visits) | DS130065 | 5/9/2013
|  | Senior Protocol Officer | DS130070 | 5/17/2013
|  | Protocol Officer (Visits) | DS130073 | 5/21/2013
| Office of the Secretary | Senior Advisor | DS130075 | 5/30/2013
| Office of the Under Secretary for Management | White House Liaison | DS130076 | 5/31/2013
| Bureau of Public Affairs | Deputy Spokesperson | DS130089 | 6/13/2013
| Bureau of Legislative Affairs | Legislative Management Officer | DS130091 | 6/14/2013
| Foreign Policy Planning Staff | Speechwriter (3) | DS130094 | 6/28/2013
|  |  | DS130095 | 6/28/2013
|  |  | DS130096 | 6/28/2013
TRADE AND DEVELOPMENT AGENCY | Office of the Director | Public Affairs Specialist | TD130003 | 5/1/2013
DEPARTMENT OF TRANSPORTATION | Administrator | Director, Office of Congressional and Public Affairs | DT120079 | 8/6/2012
| Secretary | Special Assistant for Scheduling and Advance | DT130008 | 12/10/2012
| Assistant Secretary for Governmental Affairs | Associate Director for Governmental Affairs | DT130011 | 2/27/2013
| Secretary | Director of Scheduling and Advance | DT130012 | 2/27/2013
| Assistant Secretary for Budget and Programs | Senior Advisor for Budget and Programs | DT130014 | 4/11/2013
| Public Affairs | Deputy Director of Public Affairs | DT130017 | 5/7/2013
| Administrator | Director of Communications | DT130020 | 5/7/2013
| Assistant Secretary for Governmental Affairs | Director of Governmental Affairs | DT130021 | 5/10/2013
| Administrator | Director of Communications | DT130025 | 6/25/2013
| Office of Congressional Affairs | Director of Congressional Affairs | DT130027 | 6/25/2013
DEPARTMENT OF THE TREASURY | Under Secretary for Domestic Finance | Special Assistant | DY120101 | 7/11/2012
| Assistant Secretary for Financial Markets | Senior Policy Analyst | DY120106 | 7/13/2012
| Assistant Secretary for Financial Institutions | Special Assistant | DY120118 | 8/23/2012
| Assistant Secretary for Financial Institutions | Policy Analyst | DY120120 | 9/7/2012
| Under Secretary for Domestic Finance | Senior Advisor | DY130014 | 12/21/2012
| Assistant Secretary (Public Affairs) | Spokesperson | DY130020 | 1/23/2013
| Office of the Secretary of the Treasury | Deputy Executive Secretary Senior Advisor | DY130019 DY130021 | 2/2/2013 2/22/2013
|  | Special Assistant (2) | DY130027 | 3/21/2013
|  |  | DY130026 | 3/25/2013
|  | Associate Director, Scheduling and Advance | DY130041 | 5/24/2013
| Assistant Secretary for Financial Institutions | Policy Advisor | DY130023 | 3/7/2013
| Assistant Secretary (Public Affairs) | Media Affairs Specialist | DY130025 | 3/21/2013
| Assistant Secretary (Public Affairs) | Spokesperson (2) | DY130032 | 4/23/2013
|  |  | DY130033 | 4/23/2013
|  | Media Affairs Specialist | DY130062 | 6/25/2013
| Assistant Secretary (Legislative Affairs) | Special Assistant | DY130056 | 6/7/2013
| Assistant Secretary (Tax Policy) | Senior Advisor | DY130061 | 6/17/2013
UNITED STATES INTERNATIONAL TRADE COMMISSION | Office of the Chairman | Staff Assistant (Legal) (2) Confidential Assistant | TC120007 TC120011 TC120010 | 8/14/2012 9/11/2012 9/11/2012
| Office of Commissioner Pinkert | Executive Assistant | TC120009 | 9/11/2012
| Office of Commissioner Broadbent | Attorney-Adviser | TC130002 | 5/7/2013
DEPARTMENT OF VETERANS AFFAIRS | Office of the Assistant Secretary for Public and Intergovernmental Affairs | Special Assistant | DV120061 | 7/13/2012
| Office of the Secretary and Deputy | Special Assistant | DV130007 | 10/12/2012
| Office of the Assistant Secretary for Public and Intergovernmental Affairs | Special Assistant | DV130025 | 3/12/2013
| Office of the Assistant Secretary for Congressional and Legislative Affairs | Special Assistant | DV130026 | 4/18/2013
| Office of the Assistant Secretary for Congressional and Legislative Affairs | Special Assistant | DV130030 | 5/14/2013
| Office of the Assistant Secretary for Public and Intergovernmental Affairs | Special Assistant | DV130050 | 6/26/2013

Authority: 5 U.S.C. 3301 and 3302; E.O. 10577, 3 CFR, 1954-1958 Comp., p. 218.

U.S. Office of Personnel Management.

Katherine Archuleta,
Director.

[FR Doc. 2014-02945 Filed 2-12-14; 8:45 am]

BILLING CODE 6325-39-P